DEPARTMENT OF TRANSPORTATION

Federal Aviation Administration

[Summary Notice No. PE-2008-35]

Petition for Exemption; Summary of Petition Received

AGENCY: Federal Aviation Administration (FAA), DOT.

ACTION: Notice of petition for exemption received.

SUMMARY: This notice contains a summary of a petition seeking relief from specified requirements of 14 CFR. The purpose of this notice is to improve the public's awareness of, and participation in, this aspect of FAA's regulatory activities. Neither publication of this notice nor the inclusion or omission of information in the summary is intended to affect the legal status of the petition or its final disposition.

DATES: Comments on this petition must identify the petition docket number involved and must be received on or before December 24, 2008.

ADDRESSES: You may send comments identified by Docket Number FAA-2008-0760 using any of the following methods:

• Government-wide rulemaking Web site: Go to http://www.regulations.gov and follow the instructions for sending your comments electronically.

• Mail: Send comments to the Docket Management Facility; U.S. Department of Transportation, 1200 New Jersey Avenue, SE., West Building Ground Floor, Room W12-140, Washington, DC 20590.

• Fax: Fax comments to the Docket Management Facility at 202-493-2251.

• Hand Delivery: Bring comments to the Docket Management Facility in Room W12-140 of the West Building Ground Floor at 1200 New Jersey Avenue, SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue, SE., Washington, DC, between 9 a.m. and 5 p.m., Monday through Friday, except Federal holidays.

FOR FURTHER INFORMATION CONTACT: Laverne Brunache (202) 267-3133 or Tyneka Thomas (202) 267-7626, Office of Rulemaking, Federal Aviation Administration, 800 Independence Avenue, SW., Washington, DC 20591.

This notice is published pursuant to 14 CFR 11.85.

Issued in Washington, DC, on December 1, 2008.
Pamela Hamilton-Powell,
Director, Office of Rulemaking.

Petition for Exemption

Docket No.: FAA-2008-0760.

Petitioner: Endless Mountain Pilots.

Section of 14 CFR Affected: 14 CFR 91.146, 91.147, and part 136, subpart A.

Description of Relief Sought: Endless Mountain Pilots requests an exemption from 14 CFR §§ 91.146, 91.147, and part 136, subpart A to allow the following: (1) An aircraft owner who is not piloting his/her own aircraft or the airport owner of Seamans Field Airport in Factoryville, PA (9N3) who rents aircraft in the normal course of business to share with the pilot in command (PIC) the fuel, oil, and operating cost of such flight if such aircraft owner chooses; (2) an aircraft owner who is not piloting his/her own aircraft or the airport owner of 9N3 to allow the use of his/her aircraft at no expense to the PIC, if such aircraft owner so wishes; (3) an airport owner of 9N3 to offer fuel at a reasonable discount rate which would be no less than his actual cost of the fuel; and (4) Endless Mountain Pilots to share the cost of fuel, oil, and aircraft operation with the aircraft owner and/or PIC.

[FR Doc. E8-28718 Filed 12-3-08; 8:45 am]

BILLING CODE 4910-13-P